DEPARTMENT OF DEFENSE

Office of the Secretary

Revision of the Department of Defense 6055.9-Standard, Department of Defense Ammunition and Explosives Safety Standards

AGENCY: Department of Defense.

ACTION: Notice of change.

SUMMARY: The Department of Defense Explosives Safety Board (DDESB) is announcing several changes to Department of Defense 6055.9-Standard, dated July 1999. The DDESB is republishing the Standard dated 5 October 2004 with all changes adopted by the Board since the 1999 edition.

The DDESB is taking this action pursuant to its statutory authority as set forth in Title 10, United States Code, Section 172 (10 U.S.C. 172) and DoD Directive 6055.9, “DoD Explosives Safety Board (DDESB) and DoD Component Explosives Safety Responsibilities,” 29 Jul 1996. The Standard to the Office of the Secretary of Defense, the Military Departments (including the Army and Air Force National Guards), the Defense Threat Reduction Agency, the Defense Logistics Agency, the Defense Contract Management Agency, the Coast Guard (when under DoD control), and other parties who produce or manage ammunition and explosives under contract to the DoD. Through DoD 6055.9-STD the DDESB establishes minimum explosives safety requirements for storing and handling ammunition and explosives.

ADDRESSES: Copies of this Standard may be downloaded from the DDESB Web page: http://www.ddesb.pentagon.mil/.

FOR FURTHER INFORMATION CONTACT: For more detailed information on specific aspects of this Standard, contact Dr. Jerry M. Ward, phone: (703) 325-2525; e-mail: Jerry.Ward@ddesb.osd.mil DDESB, 2461 Eisenhower Avenue, Room 856C, Alexandria, VA 22331-0600.

SUPPLEMENTARY INFORMATION: Dating back to 1928 when Congress directed the Secretaries of the military departments to establish a joint board of officers to “keep informed on stored supplies of ammunition and components thereof * * *, with particular regard to keeping those supplies properly dispersed and stored and to preventing hazardous conditions from arising to endanger life and property inside or outside of storage reservations,” the DDESB (formerly known as the Ammunition Safety Board) has periodically revised or updated the Standard based on new scientific or technical information and explosives safety experience. The implementation of a change to DoD 6055.9-STD depends on a formal publication of a change to DoD 6055.9-STD. In order to ensure compliance, the Services and Defense Agencies modify their Service or Agency implementing procedures and standards accordingly.

This revision to the July 1999 version of DoD 6055.9-STD incorporates decisions made by the DDESB at the 31 6th meeting held on 20 August 1998 up to and including the 326th meeting held on 3 March 2004 and votes by DDESB votes by correspondence memoranda dated 3 December 1998, 5 July 2000, 2 November 2000, 28 December 2001, 26 March 2002, 21 November 2002, 27 February 2003, 9 June 2003, and 25 September 2003. Although the decisions adopted by the Board up through the 31 7th meeting held on 25 February 1998 pre-date the July 1999 version, the Standard was in the publication process, and those changes were not included.

The changes included herein address the following:

• Rewrites the Standard in Plain English, expands the glossary to include additional terms used in the Standard, reorganizes the content of the chapters with no changes in explosives safety criteria, incorporates both metric and English units, and provides equations (forward and back calculations) for all tabulated variables.

• Completely revises the Hazard Division (HD) 1.2 quantity-distance (Q-D) criteria and related HD 1.1 minimum hazardous fragment distance criteria as well as incorporates editorial changes taking into account new hazard sub-divisions (HD) 1.2.1, and HD 1.2.2). (Corresponding changes were made to HD 1.2.1 and HD 1.2.2 criteria in NATO).

• Redefines “Unit Risk HD 1.2” munitions as “HD 1.2.3,” and expands and clarifies the criteria for HD 1.2.3 munitions.

• Replaces Chapter 10 “Theater of Operations” with completely revised Chapter 10 “Military Operations Other than War, Contingency, and Combat,” includes new Q-D criteria for asset preservation, provides site planning process for subject operations, defines field storage and handling areas and associated Q-D criteria, expands Glossary to include new terms included in the revised chapter.

• Clarifies that hardened aircraft shelter criteria in chapter 10 are applicable to peacetime operations as well as contingency and combat.

• Clarifies the application of barricaded intraline criteria (18W ⅓) from ammunition and explosives storage facilities to runways and taxiways (used only by DoD Components).

• Establishes criteria for high performance magazines and defines “high performance magazine,” “non-robust munitions,” “robust munitions,” “fragmenting munitions,” and “sensitivity groups” (for HD 1.1 and HD 1.2 ammunition in the Joint Hazard Classification System).

• Establishes criteria for non-DoD explosives activities on DoD installations and expands Glossary to include new terms associated with criteria.

• Establishes criteria for permissible exposure to on-base roads from HD 1.1 airblast overpressure and defines “general public” and “installation related personnel”.

• Clarifies minimum design requirements for earth-covered magazines and the expected (design) blast loads.

• Expands and clarifies safe separation distances for primary fragments.

• Replaces and expands the liquid propellant criteria with criteria for energetic liquids to include: Energetic Liquid Compatibility Groups and associated mixing rules, summary of hazard classifications and minimum Q-D for energetic liquids used by DoD, criteria for Occupational Safety and Health Administration National Fire Prevention Association Class I through Class III flammable and combustible energetic liquids, criteria for energetic liquid oxidizers, and defines “Energetic Liquid” and “Hybrid propellants”.

• Clarifies Q-D criteria and mixing rules for HD 1.4 ammunition, and harmonizes criteria for quantities less than 3,000 lb with HD 1.3 criteria for like quantities.

• Expands and clarifies criteria for piers and wharfs that are restricted loading and unloading ammunition and explosives to and from barges.

• Establishes criteria for handling limited amounts of HD 1.3 and HD 1.4 safety-at-sea and security items.

• Clarifies Q-D criteria for aircraft loaded with HD 1.4 ammunition and selected HD 1.2.2 and HD 1.3 munitions.

• Removes the list of approved earth-covered magazines (ECM) from Chapter 5 and placed in DDESB Technical Paper 15 “Approved Protective Construction,” added reference for HNDED-CS-95-01 “Guide for Evaluating Blast Resistance of Non-Standard Magazines,” and added definitions for “Aboveground Magazine” and “Earth-Covered Magazine (ECM)”.

• Revises HD mixing rules in Chapter 9.

• Clarifies criteria for application of barricaded intermagazine distance and intraline distance separation.

• Revises criteria for separation of non-explosives ships from explosives ships at anchorages.

• Revises the list of approved munitions for ARMCO revetments.

• Clarifies siting criteria for small quantities of HD 1.1 (<450 Ibs), use of ECM distances for other than 7-bar and 3-bar ECM, and application of HD 1.1 of HD 1.2.1 items under certain situations involving small quantities (<450 Ibs).

• Defines “Secure Explosives Holding Area” and “Secure Non-Explosives Holding Area” and establishes explosives safety criteria associated with them.

• Clarifies situations where explosives safety site submissions are not required.

• Completely revises Chapter 3 “Hazard Classification, Storage and Compatibility Principles, and Mixing Rules”.

• Revises storage criteria for inert items in explosives areas.

• Establishes explosives safety criteria for demilitarization processing equipment and operations for expended .50-caliber and smaller cartridge casings.

• Establishes Hazards of Electromagnetic Radiation to ordnance (HERO) criteria.

• Defines roll-on roll-off (RORO) operations and establishes limits and controls for RORO operations.

• Clarifies conveyance, such as International Standardization Organization (ISO) container, loading and unloading operations permitted at magazines.

In adopting these changes, the DDESB has determined that the Standards, as changed, are at least as protective as the previous Standards.

Dated: May 5, 2005.
L.M. Bynum,
Alternate OSD Federal Register Liaison Officer, Department of Defense.

[FR Doc. 05-9346 Filed 5-10-05; 8:45 am]

BILLING CODE 5001-06-M